DEPARTMENT OF COMMERCE

International Trade Administration

[C-552-805]

Polyethylene Retail Carrier Bags from the Socialist Republic of Vietnam: Postponement of Preliminary Determination in the Countervailing Duty Investigation

AGENCY: Import Administration, International Trade Administration, Department of Commerce.

EFFECTIVE DATE: June 4, 2009.

FOR FURTHER INFORMATION CONTACT: Gene Calvert or Jun Jack Zhao, AD/CVD Operations, Office 6, Import Administration, International Trade Administration, U.S. Department of Commerce, 14th Street and Constitution Avenue, N.W., Washington, DC 20230; telephone: (202) 482-3586 and (202) 482-1396, respectively.

SUPPLEMENTARY INFORMATION:

Background

On April 20, 2009, the Department of Commerce (the Department) initiated the countervailing duty investigation of polyethylene retail carrier bags from the Socialist Republic of Vietnam. See Polyethylene Retail Carrier Bags from Vietnam: Initiation of Countervailing Duty Investigation and Request for Public Comment on the Application of the Countervailing Duty Law on Imports From the Socialist Republic of Vietnam, 74 FR 19064 (April 27, 2009). Currently, the preliminary determination is due no later than June 24, 2009.

Postponement of Due Date for the Preliminary Determination

Section 703(b)(1) of the Tariff Act of 1930, as amended (the Act), requires the Department to issue the preliminary determination in a countervailing duty investigation within 65 days after the date on which the Department initiated the investigation. However, the Department may postpone making the preliminary determination until no later than 130 days after the date on which the administering authority initiated the investigation if, among other reasons, petitioner makes a timely request for an extension pursuant to section 703(c)(1)(A) of the Act. In the instant investigation, petitioner made such a request on May 22, 2009, requesting a postponement until 130 days from the initiation date. Therefore, pursuant to the discretion afforded the Department under 703(c)(1)(A), we are fully extending the due date for the preliminary determination. The deadline for the completion of the preliminary determination is now August 28, 2009.

This notice is issued and published pursuant to section 703(c)(2) of the Act.

Dated: May 28, 2009.
Ronald K. Lorentzen,
Acting Assistant Secretary for Import Administration.

[FR Doc. E9-13062 Filed 6-3-09; 8:45 am]

BILLING CODE 3510-DS-S